DEPARTMENT OF HEALTH AND HUMAN SERVICES

Centers for Disease Control and Prevention

Disease, Disability, and Injury Prevention and Control Special Emphasis Panel (SEP): Human Immunodeficiency Virus (HIV) Prevention Projects for Community-Based Organizations, Funding Opportunity Announcement (FOA), PS10-1003, Initial Review

Correction: This notice was published in the Federal Register on August 17, 2009, volume 74, Number 157, Page 41451. The place and time should read as follows:

Times and Dates

7:30 a.m.-5:50 p.m., February 7, 2010 (Closed).

7:30 a.m.-5:50 p.m., February 8, 2010 (Closed).

7:30 a.m.-5:50 p.m., February 9, 2010 (Closed).

7:30 a.m.-5:50 p.m., February 10, 2010 (Closed).

7:30 a.m.-5:50 p.m., February 11, 2010 (Closed).

7:30 a.m.-5:50 p.m., February 12, 2010 (Closed).

7:30 a.m.-5:50 p.m., February 13, 2010 (Closed).

Place: Hilton Atlanta, 255 Courtland Street, NE., Atlanta, Georgia 30303, Telephone (404) 659-6500.

Contact Person for More Information: Monica Farmer, M.Ed., Public Health Analyst, Strategic Science and Program Unit, Office of the Director, Coordinating Center for Infectious Diseases, CDC, 1600 Clifton Road, NE., Mailstop E-60, Atlanta, GA 30333, Telephone: (404) 498-2277.

The Director, Management Analysis and Services Office, has been delegated the authority to sign Federal Register notices pertaining to announcements of meetings and other committee management activities, for both CDC and the Agency for Toxic Substances and Disease Registry.

Dated: November 13, 2009.
Elaine L. Baker,
Director, Management Analysis and Services Office, Centers for Disease Control and Prevention.

[FR Doc. E9-27806 Filed 11-18-09; 8:45 am]

BILLING CODE 4163-18-P